DEPARTMENT OF LABOR

Office of the Secretary

Bureau of International Labor Affairs; U.S. National Administrative Office; North American Agreement on Labor Cooperation; Notice of Determination Regarding Review of U.S. Submission #2003-01

AGENCY: Office of the Secretary of Labor.

ACTION: Notice.

SUMMARY: The U.S. National Administrative Office (NAO) give notice that on February 5, 2004, U.S. Submission #2003-01 was accepted for review. The submission was filed with the NAO on September 30, 2003, by the U.S.-based United Students Against Sweatshops (USAS) and the Mexico-based Centro de Apoyo al Trabajador (CAT). An amendment to the submission was filed by the submitters on November 10, 2003. The submitters allege that the Government of Mexico has failed to fulfill its obligations under the North American Agreement on Labor Cooperation (NAALC) to effectively enforce its labor law in connection with freedom of association and protection of the right to organize, the right to bargain collectively, minimum employment standards, occupational safety and health, and access to fair, equitable and transparent labor tribunal proceedings related to events at two garment manufacturing plants located in the State of Puebla, Mexico.

Article 16(3) of the NAALC provides for the review of labor law matters in Canada and Mexico by the NAO. The objectives of the review of the submission will be to gather information to assist the NAO to better understand and publicly report on the Government of Mexico's compliance with the obligations set forth in the NAALC.

EFFECTIVE DATE: February 5, 2004.

FOR FURTHER INFORMATION CONTACT: Lewis Karesh, Acting Secretary, U.S. National Administrative Office, U.S. Department of Labor, 200 Constitution Avenue, NW., Room S-5205, Washington, DC 20210. Telephone: (202) 693-4900 (this is not a toll-free number).

SUPPLEMENTARY INFORMATION: On September 30, 2003, U.S. Submission #2003-01 was filed by the United States Against Sweatshops (USAS) and the Centro de Apoyo al Trabajador (CAT) under the North American Agreement on Labor Cooperation (NAALC) concerning the enforcement of labor law by the Government of Mexico. An amendment to the submission was filed by the submitters on November 10, 2003. The submission focuses on events at Matamoros Garment S.A. d C.V. and Tarrant México located in the State of Puebla, Mexico.

The submitters allege that the Government of Mexico has failed to fulfill its obligations under the NAALC to effectively enforce its labor law under Article 3 in connection with freedom of association and protection of the right to organize, the right to bargain collectively, minimum employment standards, occupational safety and health, and Article 4 and 5 on access to fair, equitable and transparent labor tribunal proceedings.

The submission focuses on union organizing attempts by workers at both Matamoros Garment S.A. de C.V. and Tarrant México, allegedly hindered by the Government of Mexico, specifically the Puebla Conciliation and Arbitration Board, due to its failure to provide a fair union registration process. Allegations also include failure to pay minimum wages, back wages, and severance compensation; forced overtime; illegal suspensions and layoffs; and unsanitary conditions in the factories' cafeterias and bathrooms. The submitters assert that the Government of Mexico has repeatedly failed to fulfill its obligations under Part 2 of the NAALC to effectively enforce its labor law.

The Procedural Guidelines for the NAO, published in the Federal Register on April 7, 1994, 59 FR 16660, specify that, in general, the Secretary of the NAO shall accept a submission for review if it raises issues relevant to labor law matters in Canada or Mexico and if a review would further the objectives of the NAALC.

U.S. Submission #2003-01, which alleges that Mexico has failed to effectively enforce its labor law under Articles 3, 4, and 5, relates to labor law matters in Mexico. A review would further the objectives of the NAALC, as set out in Article 1 of the NAALC, among them improving working conditions and living standards in each Party's territory, promoting the NAALC's labor principles, and encouraging publication and exchange of information, data development, and coordination to enhance mutually beneficial understanding of the laws and institutions governing labor in each Party's territory.

Accordingly, this submission has been accepted for review under Section G of the NAO Procedural Guidelines.

The NAO's decision is not intended to indicate any determination as to the validity or accuracy of the allegations contained in the submission. The objectives of the review will be to gather information to assist the NAO to better understand and publicly report on the issues of freedom of association and protection of the right to organize, the right to bargain collectively, minimum employment standards, occupational safety and health, including the Government of Mexico's compliance with the obligations agreed to under Articles 3, 4, and 5 of the NAALC. The review will be completed, and a public report issued, within 120 days, or 180 days if circumstances require an extension of time, as set out in the Procedural Guidelines of the NAO.

Signed at Washington, DC, on February 5, 2004.
Lewis Karesh,
Acting Secretary, U.S. National Administrative Office.

[FR Doc. 04-2900 Filed 2-10-04; 8:45 am]

BILLING CODE 4510-28-M